DEPARTMENT OF ENERGY

Environmental Management Site-Specific Advisory Board, Idaho; Meeting

AGENCY: Department of Energy

ACTION: Notice of open meeting.

SUMMARY: This notice announces a meeting of the Environmental Management Site-Specific Advisory Board (EM SSAB), Idaho. The Federal Advisory Committee Act (Pub. L. 92-463, 86 Stat. 770) requires that public notice of these meeting be announced in the Federal Register.

DATES: Tuesday, September 18, 2001, 8 a.m.-6 p.m.; Wednesday, September 19, 2001, 8 a.m.-5 p.m.

Public participation sessions will be held on: Tuesday, September 18, 2001, 12:15-12:30 p.m., 5:45-6 p.m.; Wednesday, September 19, 2001, 11:45-12 noon, 3:30-3:45 p.m.

These times are subject to change as the meeting progresses. Please check with the meeting facilitator to confirm these times.

ADDRESSES: Coeur d'Alene Inn, Coeur d'Alene, Idaho.

FOR FURTHER INFORMATION CONTACT: Ms. Wendy Lowe, Idaho National Engineering and Environmental Laboratory (INEEL) Citizens' Advisory Board (CAB) Facilitator, Jason Associates Corporation, 477 Shoup Avenue, Suite 205, Idaho Falls, ID 83402, Phone (208) 522-1662 or visit the Board's Internet home page at http://www.ida.net/users/cab.

SUPPLEMENTARY INFORMATION:

Purpose of the Board

The purpose of the Board is to make recommendations to DOE and its regulators in the areas of future use, cleanup levels, waste disposition and cleanup priorities at the INEEL.

Tentative Agenda

Agenda topics may change up to the day of the meeting. Please contract Jason Associates for the most current agenda or visit the CAB's Internet site at www.ida.net/users/cab/.

Objectives of the meeting will be:

• To receive a presentation on groundwater contamination at the INEEL in preparation to participate in the upcoming Site Specific Advisory Board Groundwater Workshop

• To discuss parameters for what is acceptable in technology alternatives to incineration, concerns with incineration that apply to other alternatives, and the relative importance of this evaluation in relation to other environmental research needs

• To clarify DOE's expectations of the INEEL CAB and discuss the utility of the CAB to DOE

• To receive presentations on the General Accounting Office's report and the House Appropriations Committee's request for a review of on-site versus off-site disposal costs and then discuss whether the INEEL CERCLA Disposal Facility is still acceptable to the INEEL CAB

• To discuss parameters for acceptability of site missions and research for use in institutional planning and budget allocation

• To receive a presentation on and discuss the “Top-Down Review”

• To receive a status report on the INEEL Workforce Restructuring

• To receive a presentation on and discuss a recommendation addressing the Draft Environmental Assessment for Deactivation, Decommissioning, and Dismantlement of Building 603

Public Participation

This meeting is open to the public. Written statements may be filed with the Board facilitator either before or after the meeting. Individuals who wish to make oral presentations pertaining to agenda items should contact the Board Chair at the address or telephone number listed above. Request must be received five days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments. Additional time may be made available for public comment during the presentations.

Minutes

The minutes of this meeting will be available for public review and copying at the Freedom of Information Public Reading Room, 1E-190, Forrestal Building, 1000 Independence Avenue, SW, Washington, DC 20585 between 9:00 a.m. and 4:00 p.m. Monday through Friday except Federal holidays. Minuted will also be available by writing to Ms. Wendy Lowe, INEEL CAB Facilitator, Jason Associates Corporation, 477 Shoup Avenue, Suite 205, Idaho Falls, ID 83402 or by calling (208) 522-1662.

Issued at Washington, DC on August 2, 2001.
Rachel Samuel,
Deputy Advisory Committee Management Officer.

[FR Doc. 01-19720 Filed 8-6-01; 8:45 am]

BILLING CODE 6450-01-P